DEPARTMENT OF JUSTICE

Extension of Time for Comments Relating to the Lodging of a Consent Decree Under the Comprehensive Environmental Response, Compensation and Liability Act

Notice is hereby given that the public comment period on a proposed Consent Decree in United States and State of Colorado v. Robert Friedland, Civil No. 96 N 1213 (D. Colo.), has been extended at the request of a member of the public. The Department of Justice will continue to accept comments until February 20, 2001. The Consent Decree was lodged on December 22, 2000 with the United States District Court for the District of Colorado. Notice of the public comment period was previously published at 65 FR 83084 (December 29, 2000).

Comments should be addressed to the Assistant Attorney General of the Environmental and Natural Resources Division, Department of Justice, Washington, DC 20530, and should refer to, United States and State of Colorado v. Robert Friedland, Civil No. 96 N 1213, and D.J. Ref. #90-11-3-1133B.

The Decree may be examined at the office of the U.S. Department of Justice, Environmental Enforcement Section, 999 18th Street, Suite 945, North Tower, Denver, Colorado; at U.S. EPA Region 8, Office of Regional Counsel, 999 18th Street, Suite 300, South Tower, Denver, Colorado. A copy of the Decree may be obtained by mail from the Consent Decree Library, U.S. Department of Justice, P.O. Box 7611, Washington, DC 20044. In requesting a copy, please enclose a check in the amount of $5.50 for the Decree (25 cents per page reproduction cost) payable to the Consent Decree Library.

Robert Brook,
Assistant Section Chief, Environmental Enforcement Section, Environment and Natural Resources Division.

[FR Doc. 01-3272 Filed 2-7-01; 8:45 am]

BILLING CODE 4410-15-M